DEPARTMENT OF THE INTERIOR

National Park Service

[NPS-WASO-NRNHL-16302; PPWOCRADI0, PCU00RP14.R50000]

National Register of Historic Places; Notification of Pending Nominations and Related Actions

Nominations for the following properties being considered for listing or related actions in the National Register were received by the National Park Service before July 19, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by September 2, 2014. Before including your address, phone number, email address, or other personal identifying information in your comment, you should be aware that your entire comment—including your personal identifying information—may be made publicly available at any time. While you can ask us in your comment to withhold your personal identifying information from public review, we cannot guarantee that we will be able to do so.

Dated: July 25, 2014.
Paul Lusignan,
Acting Chief, National Register of Historic Places/, National Historic Landmarks Program.

DELAWARE

Sussex County

Adams Home Farm, 15293 Adams Rd., Greenwood, 14000532

GEORGIA

Chatham County

Kensington Park—Groveland Historic District, Roughly bounded by DeRenne & Waters Aves., Abercorn & Johnston Sts., Chatham, 14000533

NEW JERSEY

Burlington County

Bordentown Historic District (Boundary Increase), 1 Spring St., Bordentown, 14000534

Hudson County

Hoboken Free Public Library and Manual Training School, 500 Park Ave., Hoboken, 14000535

Monmouth County

Asbury Park Commercial Historic District, Roughly bounded by 500, 600, 700 blks., of Bond St., Cookman & Mattison Aves. between Lake & Bangs Aves., Asbury Park, 14000536

NEW YORK

Monroe County

First Unitarian Church, 220 Winton Rd. S., Rochester, 14000537

Nassau County

Barstow, William, Mansion, 300 Steamboat Rd., Kings Point, 14000539

United States Merchant Marine Academy, 300 Steamboat Rd., Kings Point, 14000538

Suffolk County

Mollenhauer, John, House, 60 Awixa Ave., Bay Shore, 14000540

Wayne County

Lapham, Ambrose S., House, 352 W. Jackson St., Palmyra, 14000541

Westchester County

Glenwolde Park Historic District, Glenwolde Park, Walter St. & Willowbrook Ave., Tarrytown, 14000542

Metropolitan Life Insurance Company Hall of Records, 759 Palmer Rd., Yonkers, 14000543

NORTH CAROLINA

Buncombe County

West Asheville—Aycock School Historic District (Boundary Increase), 444 Haywood Rd., Asheville, 14000544

Jackson County

Downtown Sylva Historic District, Roughly bounded by Southern RR., Main, Landis & Jackson Sts., Sylva, 14000545

OHIO

Lucas County

St. Clair Street Historic District (Boundary Increase—Decrease), 28 N. St Clair, 23-29 & 31 Summit, Toledo, 14000546

Montgomery County

Weustoff and Getz Company, 210 Wayne Ave., Dayton, 14000547

Summit County

Longwood Manor, 1634 E. Aurora Rd., Macedonia, 14000548

SOUTH CAROLINA

Greenville County

Brandon Mill, 25 Draper St., Greenville, 14000317

TEXAS

Travis County

Rosewood Courts Historic District, Roughly bounded by Rosewood Ave., Chicon & Poquito Sts., Austin, 14000549

VIRGINIA

Staunton Independent city

Washington, Booker T., High School, 1114 W. Johnson St., Staunton (Independent City), 14000550

[FR Doc. 2014-19325 Filed 8-14-14; 8:45 am]

BILLING CODE 4312-51-P